DEPARTMENT OF STATE

[Public Notice: 11082]

U.S. Department of State Advisory Committee on Private International Law: Notice of Cancellation of Meeting

Due to concerns surrounding the spread of COVID-19, the Department of State's Advisory Committee on Private International Law (ACPIL) is cancelling its meeting previously scheduled meeting on Friday, April 17, 2020 in Washington, DC. This meeting will be re-scheduled at a later date. The Department of State will issue a Federal Register Notice with details.

For additional information, contact Sharla Draemel (draemels@state.gov) or Tricia Smeltzer (smeltzertk@state.gov).

Zachary A. Parker,
Director, Office of Directives Management, Department of State.

[FR Doc. 2020-06337 Filed 3-25-20; 8:45 am]

BILLING CODE 4710-08-P